DEPARTMENT OF COMMERCE

National Oceanic and Atmospheric Administration

Proposed Information Collection; Comment Request; Socio-Economic Surveys of Vessel Owners, Permit Holders, and Crew in New England and Mid-Atlantic Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 23, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Andrew Kitts, 508-495-2231 or akitts@mercury.wh.whoi.edu.

SUPPLEMENTARY INFORMATION:

I. Abstract

This request is for a new collection.

The purpose of this survey is to provide for the ongoing collection of social and economic data related to fisheries and their communities in the Northeast and Mid-Atlantic States. These data are needed to support fishery performance measures recently developed by NOAA's Northeast Science Center's Social Science Branch (SSB) in Woods Hole, MA. The measures are: Financial viability, distributional outcomes, stewardship, governance and well-being. Data to support some indicators for these measures are already routinely collected by NMFS. This survey will fill in the gaps, and allow the Northeast to collect trend data needed for more thorough analysis of changes in the fisheries, including impacts from changes in regulations. The National Environmental Policy Act (NEPA) and the Magnuson-Stevens Fishery Conservation and Management Act (MSA), as amended, both contain requirements for considering the social and economic impacts of fishery management decisions. Currently, however, no data exist that allow for tracking the social impacts of fishery management policy and decisions over time in the Northeast and Mid-Atlantic States, and insufficient economic trend data are available. In implementing policies and management programs and in meeting the social and economic impact assessment requirements of NEPA and MSA, there is a need to understand how such policies and programs will affect the social and economic characteristics of those involved in the commercial fishing industry. Under this survey, the SSB intends to collect socio-economic data from vessel owners, permit holders, hired captains, and crew involved in commercial fishing in New England and the Mid-Atlantic States. Data to be collected include information on crew, wage calculation systems, individual and community well-being, fishing practices, job satisfaction, job opportunities, and attitudes toward fisheries management. SSB intends to collect these data on an ongoing (e.g., annually or biennially) basis in order to track how socio-economic characteristics of fisheries are changing over time and to track the impact of fishery policies and management programs implemented in New England and the Mid-Atlantic.

NOAA is aware of a survey begun by the University of Rhode Island in 2009/2010 in New England under a grant from the Commercial Fisheries Research Foundation, that seeks PRA clearance for a follow-up in the Mid-Atlantic in summer 2011 under NOAA funding (Social Impacts of the Implementation of Catch Shares Programs in the Mid-Atlantic, OMB Control No. 0648-xxxx). The current request has learned from some elements of the URI and follow-on survey. However, this request (1) Is focused on fisheries management in general while the earlier study is focused solely on catch shares, (2) is an ongoing survey rather than a one-time effort, and (3) specifically targets performance indicators for which data are not currently being collected.

II. Method of Collection

The most appropriate method of collection is still being investigated through an ongoing research project. For the owners/permit holders' survey, NOAA is considering in-person interviewing, a phone survey, or mail survey, although the possibility of using an e-mail survey is also being considered. For the crew survey, research is being conducted to determine the most appropriate method of collection. Given the population (ships' crew), NOAA is considering either an in-person intercept approach or a phone survey, depending on the availability of phone numbers for crew.

Additionally, in order to reduce per-respondent burdens, SSB is considering splitting questions asked among the respondents. A core set of questions would be asked to all sample respondents, but some questions would only be asked to one half of the sample and another set of questions would be asked to the other half of the sample.

III. Data

OMB Control Number: None.

Form Number: None.

Type of Review: Regular submission (new collection).

Affected Public: Individuals or households; Business or other for-profit.

Estimated Number of Respondents: 1,000 annually.

Estimated Time per Response: 30 minutes.

Estimated Total Annual Burden Hours: 500.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 18, 2011.
Gwellnar Banks,
Management Analyst, Office of the Chief Information Officer.

[FR Doc. 2011-6924 Filed 3-23-11; 8:45 am]

BILLING CODE 3510-22-P